EXPORT-IMPORT BANK

Economic Impact Policy

This notice is to inform the public that the Export-Import Bank of the United States has received an application for a $675 million direct loan to support the export of approximately $525 million in U.S. licenses and packaged refinery equipment to an oil refinery in Turkey. The U.S. exports will enable the facility to produce approximately: 4,600 metric tons of naphtha per day; 1,200 metric tons of xylene per day; 2,500 metric tons of petroleum coke (pet coke) per day; and 450 metric tons of sulfur per day. Available information indicates that the sulfur and pet coke will be sold into the global market, and the remaining foreign output will be sold in Turkey.

Interested parties may submit comments on this transaction by email to economic.impact@exim.gov or by mail to 811 Vermont Avenue NW., Room 445, Washington, DC 20571, within 14 days of the date this notice appears in the Federal Register.

James Cruse,
Senior Vice President, Policy and Planning.

[FR Doc. 2013-15830 Filed 7-1-13; 8:45 am]

BILLING CODE 6690-01-P